SECURITIES AND EXCHANGE COMMISSION

Submission for OMB Review; Comment Request

Upon Written Request, Copies Available From: Securities and Exchange Commission, Office of FOIA Services, 100 F Street NE., Washington, DC 20549-2736.

Extension:

Rule 19d-2. SEC File No. 270-204, OMB Control No. 3235-0205.

Notice is hereby given that pursuant to the Paperwork Reduction Act of 1995 (44 U.S.C. 3501 et seq.) the Securities and Exchange Commission (“Commission”) is soliciting comments on the existing collection of information provided for in Rule 19d-2—Applications for Stays of Final Disciplinary Sanction (17 CFR 240.19d-2) under the Securities Exchange Act of 1943 (15 U.S.C. 78a et seq.) (“Exchange Act”). The Commission plans to submit this existing collection of information to the Office of Management and Budget (“OMB”) for extension and approval.

Rule 19d-2 under the Exchange Act prescribes the form and content of applications to the Commission by persons desiring stays of final disciplinary sanctions and summary action of self-regulatory organizations (“SROs”) for which the Commission is the appropriate regulatory agency.

It is estimated that approximately three respondents will utilize this application procedure annually, with a total burden of nine hours, based upon past submissions. The staff estimates that the average number of hours necessary to comply with the requirements of Rule 19d-2 is 3 hours.

Based on the most recent available information, the Commission staff estimates that the internal labor cost to respondents of complying with the requirements of Rule 19d-2 is $990 per response. Therefore, the Commission staff estimates that the total internal labor cost per respondent is $990 (1 response/respondent/year × $990 cost/response), for a total annual internal labor cost to all respondents of $2,970 ($990 cost/respondent × 3 respondents).

Estimates of average burden hours are made solely for the purposes of the Paperwork Reduction Act and are not derived from a comprehensive or even representative survey or study of the costs of Commission rules and forms. The collection of information under rule 19d-2 is mandatory. The information provided under rule 19d-2 will not be kept confidential. An agency may not conduct or sponsor, and a person is not required to respond to, a collection of information unless it displays a currently valid OMB control number.

The public may view the background documentation for this information collection at the following Web site, www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Pamela Dyson, Chief Information Officer, Securities and Exchange Commission,c/o Remi Pavlik-Simon, 100 F Street, NE., Washington, DC 20549 or send an email to: PRA_Mailbox@sec.gov. Comments must be submitted to OMB within 30 days of this notice.

Dated: February 24, 2015.
Jill M. Peterson,
Assistant Secretary.

[FR Doc. 2015-04221 Filed 2-27-15; 8:45 am]

BILLING CODE 8011-01-P